DEPARTMENT OF THE INTERIOR

Fish and Wildlife Service

50 CFR Part 17

RIN 1018-AI20

Endangered and Threatened Wildlife and Plants; Final Designation of Critical Habitat for Topeka Shiner

AGENCY: Fish and Wildlife Service, Interior.

ACTION: Final rule; correction.

SUMMARY: We, the U.S. Fish and Wildlife Service (Service), announce corrections to the final rule designating critical habitat for the Topeka shiner (Notropis topeka), published in the Federal Register on July 27, 2004. In the final rule, the map legends incorrectly referred to stream segments as “proposed” critical habitat rather than “designated” critical habitat, and six transcription errors were included in legal descriptions of critical habitat from Unit 1 (Iowa) and Unit 4 (Minnesota). This document corrects these errors.

DATES: Effective August 26, 2004.

FOR FURTHER INFORMATION CONTACT: Vernon Tabor, Kansas Ecological Services Field Office, 315 Houston Street, Suite E, Manhattan, Kansas 66502 (telephone 785-539-3474; facsimile 785-539-8567). The complete file for this correction document and the rule are available for public inspection, by appointment, during normal business hours at the above address. Copies of the rule, draft economic analysis, and draft environmental assessment are available by writing to the above address or by connecting to the Service Internet Web site at http://mountain-prairie.fws.gov/ topekashiner/ch.

SUPPLEMENTARY INFORMATION: On July 27, 2004, we published a final rule designating critical habitat for the Topeka shiner (Notropis topeka), a species of fish native to small streams in the Central Plains Region (69 FR 44736). The map legends on the five maps included in the final rule incorrectly referred to “proposed critical habitat” rather than “designated critical habitat” and “not proposed as critical habitat” rather than “not designated as critical habitat.” In addition, the final rule included six transcription errors in legal descriptions of critical habitat from Unit 1 (North Raccoon River Watershed, Iowa) and Unit 4 (Big Sioux River/Rock Rivers Watershed, Minnesota). Finally, Map 4 had one typographical error in the title. We are providing corrected maps and corrected legal coordinates for the description of designated critical habitat for Topeka shiner.

In the final rule, we designated as critical habitat a total of 83 stream segments, representing 1,356 kilometers (836 miles) of stream in the States of Iowa, Minnesota, and Nebraska. We excluded from designation all previously proposed critical habitat in the States of Kansas, Missouri, and South Dakota under authority of sections 3(5)(A) and 4(b)(2) of the Endangered Species Act (Act), and excluded critical habitat from designation on the Fort Riley Military Installation in Kansas under authority of section 4(a)(3) of the Act. The number of stream segments and length of stream channel designated as critical habitat do not change with this correction document, nor do the exclusions provided by the final rule.

List of Subjects in 50 CFR Part 17

Endangered and threatened species, Exports, Imports, Reporting and recordkeeping requirements, Transportation.

Regulation Correction

PART 17—[CORRECTED]

For reasons set forth in the preamble, 50 CFR part 17 is corrected by making the following correcting amendments:

1. The authority citation for part 17 continues to read as follows:

Authority: 16 U.S.C. 1361-1407; 16 U.S.C. 1531-1544; 16 U.S.C. 4201-4245; Pub. L. 99-625, 100 Stat. 3500; unless otherwise noted.

2. In § 17.95 for the “Topeka Shiner” amend paragraphs (e)(5)(i) and (ii), by revising “R35W” to read “R36W” wherever it appears.

3. In § 17.95(e)(5)(x), correct the legal description for Unit 1 to read as follows:

§ 17.95 Critical habitat—fish and wildlife.

* * * * *

(e) * * *

(5) * * *

(x) Reach 6b. West Cedar Creek from its confluence with East Cedar Creek (T87N, R31W, Sec. 31), upstream to a point 2,000 feet west of the east section line of T87N, R31W, Sec. 18.

* * * * *

4. In § 17.95(e)(6), revise Map 1 to read as follows:

BILLING CODE 4310-55-P

5. In § 17.95(e)(8), revise Map 2 to read as follows:

6. In § 17.95(e)(10), revise Map 3 to read as follows:

7. In § 17.95(e)(11)(xvi), remove the words “Sec. 22” and “Sec. 23” and add in their place, respectively, “Sec. 23” and “Sec. 22”.

8. In § 17.95(e)(11)(xxi), remove the words “its confluence with Beaver Creek” and add in their place “the Minnesota/South Dakota border”.

9. In § 17.95(e)(11)(xlii), remove the words “Sec. 33” and add in their place “Sec. 13”.

10. In § 17.95(e)(12), revise Map 4 to read as follows:

11. In § 17.95(e)(14), revise Map 5 to read as follows:

* * * * *

Dated: March 17, 2005.
Craig Manson,
Assistant Secretary for Fish and Wildlife and Parks.

[FR Doc. 05-5954 Filed 3-24-05; 8:45 am]

BILLING CODE 4310-55-C